ENVIRONMENTAL PROTECTION AGENCY

40 CFR Part 52

[CA 224-0213a; FRL-6549-7]

Approval and Promulgation of Implementation Plans; California State Implementation Plan Revision, Monterey Bay Unified Air Pollution Control District, San Joaquin Valley Unified Air Pollution Control District, Santa Barbara County Air Pollution Control District, South Coast Air Quality Air Management District

AGENCY: Environmental Protection Agency (EPA).

ACTION: Direct final rule.

SUMMARY: EPA is taking direct final action on revisions to the California State Implementation Plan. The revisions concern rules from the following districts: Monterey Bay Unified Air Pollution Control District, San Joaquin Valley Unified Air Pollution Control District, Santa Barbara County Air Pollution Control District, and South Coast Air Quality Air Management District. This approval action will incorporate these rules into the federally approved SIP. The intended effect of approving these rules is to regulate emissions of volatile organic compounds (VOCs) according to the requirements of the Clean Air Act, as amended in 1990 (CAA or the Act). The revised rules control VOC emissions from the coating of wood products and wood flat stock. Thus, EPA is finalizing the approval of these revisions into the California SIP under provisions of the CAA regarding EPA action on SIP submittals, SIPs for national primary and secondary ambient air quality standards and plan requirements for nonattainment areas.

DATES: This rule is effective on May 22, 2000 without further notice, unless EPA receives adverse comments by April 21, 2000. If EPA receives such comment, it will publish a timely withdrawal Federal Register informing the public that this rule will not take effect.

ADDRESSES: Written comments must be submitted to Andrew Steckel at the Region IX office listed below. Copies of the rule revisions and EPA's evaluation report for each rule are available for public inspection at EPA's Region IX office during normal business hours. Copies of the submitted rule revisions are available for inspection at the following locations:

Rulemaking Office (AIR-4), Air Division, U.S. Environmental Protection Agency, Region IX, 75 Hawthorne Street, San Francisco, CA 94105;

Environmental Protection Agency, Air Docket (6102), 401 “M” Street, SW., Washington, D.C. 20460;

California Air Resources Board, Stationary Source Division, Rule Evaluation Section, 2020 “L” Street, Sacramento, CA 95812;

Monterey Bay Unified Air Pollution Control District, 24580 Silver Cloud Court, Monterey, CA 93940;

San Joaquin Unified Air Pollution Control District, 1999 Tuolumne Street, Suite 200, Fresno, CA 93721;

Santa Barbara County Air Pollution Control District 26 Castilian Drive, Suite B-23, Goleta, CA 93117; and,

South Coast Air Quality Management District, 218 East Copley Drive, Diamond Bar, CA 91765.

FOR FURTHER INFORMATION CONTACT: Jerald S. Wamsley, Rulemaking Office, AIR-4, Air Division, U.S. Environmental Protection Agency, Region IX, 75 Hawthorne Street, San Francisco, CA 94105, Telephone: (415) 744-1226.

SUPPLEMENTARY INFORMATION:

I. Applicability

The rules being approved into the California SIP include: Monterey Bay Unified Air Pollution Control District (MBUAPCD) Rule 429—Applications of Nonarchitectural Coatings; San Joaquin Valley Unified Air Pollution Control District (SJVUAPCD) Rule 4606—Wood Products Coating Operations; Santa Barbara County Air Pollution Control District (SBCAPCD) Rule 351—Surface Coating of Wood Products; South Coast Air Quality Management District(SCAQMD) Rule 1104—Wood Flat Stock Coating Operations. These rules were submitted by the California Air Resources Board (CARB) to EPA on these respective dates: March 23, 1988; February 16, 1999; May 13, 1999; and, October 29, 1999.

II. Background

On March 3, 1978, EPA promulgated a list of ozone nonattainment areas under the provisions of the Clean Air Act, as amended in 1977 (1977 Act or pre-amended Act), that included the Monterey Bay, San Joaquin Valley, Santa Barbara County, and the South Coast air basin. 43 FR 8964, 40 CFR 81.305. On May 26, 1988, EPA notified the Governor of California, pursuant to section 110(a)(2)(H) of the 1977 Act, that the above districts' portions of the California SIP were inadequate to attain and maintain the ozone standard and requested that deficiencies in the existing SIP be corrected (EPA's SIP-Call). On November 15, 1990, the Clean Air Act Amendments of 1990 were enacted. Public Law 101-549, 104 Stat. 2399, codified at 42 U.S.C. 7401-7671q. In amended section 182(a)(2)(A) of the CAA, Congress statutorily adopted the requirement that nonattainment areas fix their deficient reasonably available control technology (RACT) rules for ozone and established a deadline of May 15, 1991 for states to submit corrections of those deficiencies.

Section 182(a)(2)(A) applies to areas designated as nonattainment prior to enactment of the amendments and classified as marginal or above as of the date of enactment. It requires such areas to adopt and correct RACT rules pursuant to pre-amended section 172(b) as interpreted in pre-amendment guidance.¹ EPA's SIP-Call used that guidance to indicate the necessary corrections for specific nonattainment areas. The nonattainment areas subject to this rulemaking were classified as follows: Monterey Bay—moderate; San Joaquin Valley and Santa Barbara—serious; and South Coast—extreme.² Therefore, these areas are subject to the RACT fix-up requirement and the May 15, 1991 deadline. The Monterey Bay Area was redesignated as an attainment area for the ozone standard on January 17, 1997 (see 62 FR 2597.)

¹ Among other things, the pre-amendment guidance consists of those portions of the proposed Post-1987 ozone and carbon monoxide policy that concern RACT, 52 FR 45044 (November 24, 1987); “Issues Relating to VOC Regulation Cutpoints, Deficiencies, and Deviations, Clarification to Appendix D of November 24, 1987 Federal Register document” (Blue Book) (notice of availability was published in the Federal Register on May 25, 1988); and the existing control technique guidelines (CTGs).

² The Monterey Bay, San Joaquin Valley, Santa Barbara County and South Coast nonattainment areas retained their designation of nonattainment and were classified by operation of law pursuant to sections 107(d) and 181(a) upon the date of enactment of the CAA.

Along with many other revised RACT rules, the State of California submitted the rules being acted on in this document for incorporation into its SIP on the following dates: March 23, 1988 (MBUAPCD Rule 429); February 16, 1999 (SJVUAPCD Rule 4606); May 13, 1999 (SBCAPCD Rule 351); and October 29, 1999 (SCAQMD Rule 1104.) MBUAPCD adopted Rule 429 on September 16, 1987, prior to EPA's promulgation of its completeness criteria for SIP submittals. SJVUAPCD adopted Rule 4606 on December 17, 1998. SBCAPCD adopted Rule 351 on August 20, 1998. SCAQMD adopted Rule 1104 on August 13, 1999. These submitted rules were found to be complete on April 23, 1999 (SJVUAPCD Rule 4606), June 10, 1999 (SBCAPCD Rule 351), and December 16, 1999 (SCAQMD Rule 1104), pursuant to EPA's completeness criteria that are set forth in 40 CFR part 51, appendix V ³ and are being finalized for approval into the SIP. This document addresses EPA's direct-final action for MBUAPCD Rule 429—Applications of Nonarchitectural Coatings; SJVUAPCD Rule 4606—Wood Products Coating Operations; SBCAPCD Rule 351—Surface Coating of Wood Products; SCAQMD Rule 1104—Wood Flat Stock Coating Operations.

³ EPA adopted the completeness criteria on February 16, 1990 (55 FR 5830) and, pursuant to section 110(k)(1)(A) of the CAA, revised the criteria on August 26, 1991 (56 FR 42216).

SJVUAPCD Rule 4606, SBCAPCD Rule 351, and SCAQMD Rule 1104 regulate the VOC content of various coatings applied to wood products such as furniture, cabinets, and interior and exterior wood paneling. VOCs contribute to the production of ground level ozone and smog. MBUAPCD Rule 429 regulates spray gun work practices. These rules were adopted originally as part of each air district's effort to achieve the National Ambient Air Quality Standard (NAAQS) for ozone and in response to EPA's SIP-Call and the section 182(a)(2)(A) CAA requirement. EPA's evaluation and final action for these four rules follow below.

III. EPA Evaluation and Action

In determining the approvability of a VOC rule, EPA must evaluate the rule for consistency with the requirements of the CAA and EPA regulations, as found in section 110 and part D of the CAA and 40 CFR part 51 (Requirements for Preparation, Adoption, and Submittal of Implementation Plans). The EPA interpretation of these requirements, which forms the basis for today's action, appears in the various EPA policy guidance documents listed in footnote one. Among those provisions is the requirement that a VOC rule must, at a minimum, provide for the implementation of RACT for stationary sources of VOC emissions. This requirement was carried forth from the pre-amended Act.

For the purpose of assisting state and local agencies in developing RACT rules, EPA prepared a series of Control Technique Guideline (CTG) documents. The CTGs are based on the underlying requirements of the Act and specify the presumptive norms for what is RACT for specific source categories. Under the CAA, Congress ratified EPA's use of these documents, as well as other Agency policy, for requiring States to “fix-up” their RACT rules. See section 182(a)(2)(A). The CTG applicable to SJVUAPCD Rule 4606 and SBCAPCD Rule 351 is the following: “Guideline Series: Control of Volatile Organic Compound Emissions from Wood Furniture Manufacturing Operations,” USEPA, April, 1996. The CTG applicable to SCAQMD Rule 1104 is the following: “Guideline Series: Control of Volatile Organic Compound Emissions from Existing Stationary Sources Volume VII: Factory Surface Coating of Flatwood Panelling;” USEPA, June 1978; EPA-450/2-78-032.

Further interpretations of EPA policy are found in the Blue Book, referred to in footnote one. In general, these guidance documents have been set forth to ensure that VOC rules are fully enforceable and strengthen or maintain the SIP. Each of the subject rules within this action will now be reviewed briefly.

There is no version of MBUAPCD Rule 429—Applications of Nonarchitectural Coatings in the SIP. The submitted rule includes the following provisions:

—Applicability;

—Definitions of terms used within the rule; and,

—Spray application requirements.

EPA has evaluated the submitted MBUAPCD Rule 429 and has determined that it is consistent with the CAA, EPA regulations, and EPA policy. Therefore, MBUAPCD Rule 429—Applications of Nonarchitectural Coatings is being approved under section 110(k)(3) of the CAA as meeting the requirements of section 110(a) and part D.

There is no version of SJVUAPCD Rule 4606—Wood Products Coating Operations in the SIP. The submitted rule includes the following provisions:

—A statement of purpose;

—Applicability;

—Definitions of terms used within the rule;

—Exemptions from the rule;

—Requirements concerning VOC (volatile organic compounds) content of coatings, application equipment, prohibition of specification, and storage of ROC containing materials;

—Recordkeeping to demonstrate compliance with the rule;

—Test methods for determining compliance with the rule; and,

—Compliance schedules.

EPA has evaluated the submitted SJVUAPCD Rule 4606 and has determined that it is consistent with the CAA, EPA regulations, and EPA policy. Therefore, SJVUAPCD Rule 4606—Wood Products Coating Operations is being approved under section 110(k)(3) of the CAA as meeting the requirements of section 110(a) and part D.

There is no version of SBCAPCD Rule 351—Surface Coating of Wood Products in the SIP. The submitted rule includes the following provisions:

—Applicability;

—Exemptions from the rule;

—Definitions of terms used within the rule;

—Requirements concerning ROC (reactive organic compounds) content of coatings, transfer efficiency, prohibition of specification, and storage of ROC containing materials;

—Test methods for determining compliance with the rule; and,

—Recordkeeping to demonstrate compliance with the rule.

EPA has evaluated the submitted rule and has determined that it is consistent with the CAA, EPA regulations, and EPA policy. Therefore, SBCAPCD Rule 351—Surface Coating of Wood Products is being approved under section 110(k)(3) of the CAA as meeting the requirements of section 110(a) and part D.

On June 23, 1994 (see 59 FR 32354), EPA approved into the SIP a version of Rule SCAQMD Rule 1104—Wood Flat Stock Coating Operations adopted by the SCAQMD on March 1, 1991. SCAQMD's submitted Rule 1104 includes the following significant changes from the current SIP-approved rule:

—The allowable VOC content for inks is reduced from 300 grams/liter (gr/l) to 250 gr/l;

—The allowable VOC content for exterior siding coatings is reduced from 300 gr/l to 250 gr/l; and,

—The exempt compounds and volatile organic compound definitions were deleted and SCAQMD Rule 102—Definitions is referenced in their place.

The modified VOC content limits within submitted Rule 1104 do not interfere with reasonable further progress or attainment of the NAAQS, because the VOC content limits have been lowered. The changes to Rule 1104 increase VOC emission reductions compared to the 1991 version of the rule within the SIP. SCAQMD calculated that VOC emissions are reduced by an additional 7.9 pounds per day. For these reasons, the changes within submitted Rule 1104 are consistent with the requirements of section 110(l) of the CAA.

EPA has evaluated the submitted SCAQMD Rule 1104 and has determined that it is consistent with the CAA, EPA regulations, and EPA policy. Therefore, SCAQMD Rule 1104—Wood Flat Stock Coating Operations is being approved under section 110(k)(3) of the CAA as meeting the requirements of section 110(a) and part D.

EPA is publishing this rulemaking without prior proposal because the Agency views this as a noncontroversial amendment and anticipates no adverse comments. However, in the proposed rules section of this Federal Register publication, EPA is publishing a separate document that will serve as the proposal to approve the SIP revision should adverse comments be filed. This rule will be effective May 22, 2000 without further notice unless the Agency receives adverse comments by April 21, 2000.

If the EPA receives such comments, then EPA will publish a timely withdrawal in the Federal Register informing the public that the rule will not take effect. All public comments received will then be addressed in a subsequent final rule based on the proposed rule. The EPA will not institute a second comment period. Any parties interested in commenting on this rule should do so at this time. If no such comments are received, the public is advised that this rule is effective on May 22, 2000 and no further action will be taken on the proposed rule.

IV. Administrative Requirements

A. Executive Order 12866

The Office of Management and Budget (OMB) has exempted this regulatory action from Executive Order 12866, entitled “Regulatory Planning and Review.”

B. Executive Order 13132

Federalism (64 FR 43255, August 10, 1999) revokes and replaces Executive Orders 12612, Federalism and 12875, Enhancing the Intergovernmental Partnership. Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. Thus, the requirements of section 6 of the Executive Order do not apply to this rule.

C. Executive Order 13045

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

D. Executive Order 13084

Under Executive Order 13084, Consultation and Coordination with Indian Tribal Governments, EPA may not issue a regulation that is not required by statute, that significantly affects or uniquely affects the communities of Indian tribal governments, and that imposes substantial direct compliance costs on those communities, unless the Federal government provides the funds necessary to pay the direct compliance costs incurred by the tribal governments. If the mandate is unfunded, EPA must provide to the Office of Management and Budget, in a separately identified section of the preamble to the rule, a description of the extent of EPA's prior consultation with representatives of affected tribal governments, a summary of the nature of their concerns, and a statement supporting the need to issue the regulation.

In addition, Executive Order 13084 requires EPA to develop an effective process permitting elected and other representatives of Indian tribal governments “to provide meaningful and timely input in the development of regulatory policies on matters that significantly or uniquely affect their communities.” Today's rule does not significantly or uniquely affect the communities of Indian tribal governments. Accordingly, the requirements of section 3(b) of Executive Order 13084 do not apply to this rule.

E. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This final rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities.

Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

F. Unfunded Mandates

Under section 202 of the Unfunded Mandates Reform Act of 1995 (“Unfunded Mandates Act”), signed into law on March 22, 1995, EPA must prepare a budgetary impact statement to accompany any proposed or final rule that includes a Federal mandate that may result in estimated annual costs to State, local, or tribal governments in the aggregate; or to private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated annual costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This rule is not a “major” rule as defined by 5 U.S.C. 804(2).

H. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

I. Petitions for Judicial Review

Under section 307(b)(1) of the Clean Air Act, petitions for judicial review of this action must be filed in the United States Court of Appeals for the appropriate circuit by May 22, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Intergovernmental relations, Ozone, Reporting and recordkeeping requirements, Volatile organic compounds.

Dated: February 15, 2000.
Laura Yoshii,
Acting Regional Administrator, Region IX.

Part 52, Chapter I, Title 40 of the Code of Federal Regulations is amended as follows:

PART 52—[AMENDED]

1. The authority citation for Part 52 continues to read as follows:

Authority: 42 U.S.C. 7401 et seq.

Subpart F—California

2. Section 52.220 is amended by adding paragraphs (c)(176)(i)(D), (c)(262)(i)(D), (c)(263)(i)(B)(2), and (c)(270)(i)(c)(2) to read as follows:

§ 52.220 Identification of plan.

* * * * *

(c) * * *

(176) * * *

(i) * * *

(D) Monterey Bay Unified Air Pollution Control District.

(1) Rule 429 adopted on September 16, 1987.

* * * * *

(262) * * *

(i) * * *

(D) San Joaquin Valley Unified Air Pollution Control District.

(1) Rule 4606 adopted on December 19, 1991 and amended on December 17, 1998.

* * * * *

(263) * * *

(i) * * *

(B) * * *

(2) Rule 351 adopted on August 24, 1993 and amended on August 20, 1998.

* * * * *

(270) * * *

(i) * * *

(C) * * *

(2) Rule 1104 adopted on April 7, 1978 and amended on August 13, 1999.

* * * * *

[FR Doc. 00-6972 Filed 3-21-00; 8:45 am]

BILLING CODE 6560-50-P